DEPARTMENT OF COMMERCE

National Oceanic and Atmospheric Administration

[RTID 0648-XB739]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including a joint session with the Atlantic States Marine Fisheries Commission's Interstate Fisheries Management Program (ISFMP) Policy Board.

DATES: The meetings will be held Tuesday, February 8, 2022 through Wednesday, February 9, 2022. For agenda details, see SUPPLEMENTARY INFORMATION.

ADDRESSES: This meeting will be conducted entirely by webinar. Webinar registration details will be available on the Council's website at https://www.mafmc.org/council-events.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Tuesday, February 8, 2022

Atlantic Sturgeon Bycatch Working Group

Presentation on the formation and planned activities of the Atlantic Sturgeon Bycatch Working Group and request for public input

Recusal Briefing

John Almeida, NOAA General Counsel

2022 Recreational Management Measures for Summer Flounder, Scup, and Black Sea Bass

Review action taken by ASMFC Summer Flounder, Scup, and Black Sea Bass Management Board regarding 2022 recreational management measures

Consider revising Council recommendation for 2022 recreational management measures if needed in response to Board action

Council Meeting with the Atlantic States Marine Fisheries Commission's ISFMP Policy Board

Recreational Harvest Control Rule Framework/Addenda for Summer Flounder, Scup, Black Sea Bass, and Bluefish

Review draft range of alternatives

Consider splitting range of alternatives into multiple actions

Approve final range of alternatives for framework/addenda

Approve draft addenda for public hearings

Wednesday, February 9, 2022

Business Session

Committee Reports (SSC, RSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Dated: January 18, 2022.
Tracey L. Thompson,
Acting Deputy Director, Office of Sustainable Fisheries, National Marine Fisheries Service.

[FR Doc. 2022-01196 Filed 1-21-22; 8:45 am]

BILLING CODE 3510-22-P